DEPARTMENT OF COMMERCE

Foreign-Trade Zones Board

[B-81-2012]

Foreign-Trade Zone 163—Ponce, PR; Application for Subzone; Zimmer Manufacturing BV; Ponce, PR

An application has been submitted to the Foreign-Trade Zones Board (the Board) by CODEZOL, C.D., grantee of FTZ 163, requesting special-purpose subzone status for the facility of Zimmer Manufacturing BV located in Ponce, Puerto Rico. The application was submitted pursuant to the provisions of the Foreign-Trade Zones Act, as amended (19 U.S.C. 81a-81u), and the regulations of the Board (15 CFR part 400). It was formally docketed on November 8, 2012.

The proposed subzone (14.34 acres) is located at State Road 1 Km 123.4, Mercedita Ward, Ponce, Puerto Rico. A notification of proposed production activity has been submitted and will be published separately for public comment.

In accordance with the Board's regulations, Camille Evans of the FTZ Staff is designated examiner to review the application and make recommendations to the Board.

Public comment is invited from interested parties. Submissions shall be addressed to the Board's Executive Secretary at the address below. The closing period for their receipt is December 26, 2012. Rebuttal comments in response to material submitted during the foregoing period may be submitted during the subsequent 15-day period to January 9, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: November 8, 2012.
Andrew McGilvray,
Executive Secretary.

[FR Doc. 2012-27780 Filed 11-14-12; 8:45 am]

BILLING CODE P